DEPARTMENT OF HEALTH AND HUMAN SERVICES

Administration for Children and Families

Proposed Information Collection Activity; Prevention Services Data Collection (Office of Management and Budget #0970-0529)

AGENCY: Children's Bureau, Administration for Children and Families, U.S. Department of Health and Human Services.

ACTION: Request for public comments.

SUMMARY: The Administration for Children and Families (ACF), Children's Bureau is requesting a 3-year extension of the Prevention Services Data Collection (Office of Management and Budget #0970-0529, expiration May 31, 2025). There are no changes requested to the data collection.

DATES: Comments due February 25, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Section 471(e)(4)(E) of the Social Security Act (the Act) (42 U.S.C. 671), as amended by Public Law 115-123, requires State and Tribal child welfare agencies to collect and report to ACF information on children receiving prevention and family services and programs. Title IV-E Agencies must report the following:

• The specific services or programs provided

• The total expenditures for each of the services or programs provided

• The duration of the services or programs provided, and

• If the child was identified in a prevention plan as a candidate for foster care:

○ The child's placement status at the beginning, and at the end, of the 12-month period that begins on the date the child was identified as a candidate for foster care in a prevention plan; and

○ Whether the child entered foster care during the initial 12-month period and during the subsequent 12-month period.

To date, approximately 83 percent of the title IV-E Agencies have chosen to provide these prevention services. The data collected will continue to inform Federal policy decisions, program management, and responses to Congressional and Departmental inquiries. Specifically, the data will provide information about the use and availability of prevention services to children to prevent the need for foster care placement. The data contains personally identifiable information (date of birth and race/ethnicity).

Respondents: Title IV-E Agencies.

Annual Burden Estimates
Instrument | Annual number of respondents | Annual number of responses per respondent | Average burden hours per response | Annual
Prevention Services Data Collection | 53 | 2 | 31 | 3,286

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 471(e)(4)(E) of the Act (42 U.S.C. 671), as amended by Public Law 115-123.

Mary C. Jones,
ACF/OPRE Certifying Officer.

[FR Doc. 2024-31075 Filed 12-26-24; 8:45 am]

BILLING CODE 4184-01-P